DEPARTMENT OF ENERGY

Federal Energy Regulatory Commission

Combined Notice of Filings #1

Take notice that the Commission received the following electric rate filings:

Docket Numbers: ER15-1823-001.

Applicants: Pacific Gas and Electric Company.

Description: Compliance filing: eTariff Migration Compliance Filing to Update Pending Records in SA17 Western to be effective 8/1/2015.

Filed Date: 8/24/15.

Accession Number: 20150824-5000.

Comments Due: 5 p.m. ET 9/14/15.

Docket Numbers: ER15-1824-001.

Applicants: Pacific Gas and Electric Company.

Description: Compliance filing: eTariff Migration Compliance Filing to Update Pending Records in SA 59 Western to be effective 8/1/2015.

Filed Date: 8/21/15.

Accession Number: 20150821-5238.

Comments Due: 5 p.m. ET 9/11/15.

Docket Numbers: ER15-1840-001.

Applicants: Pacific Gas and Electric Company.

Description: Compliance filing: eTariff Migration Compliance Filing to Update Pending Records in SA 275 CDWR WPA to be effective 7/23/2015.

Filed Date: 8/21/15.

Accession Number: 20150821-5236.

Comments Due: 5 p.m. ET 9/11/15.

Docket Numbers: ER15-1919-002.

Applicants: California Independent System Operator Corporation.

Description: Tariff Amendment: 2015-08-21 Deficiency Letter Response to be effective 10/27/2015.

Filed Date: 8/21/15.

Accession Number: 20150821-5237.

Comments Due: 5 p.m. ET 9/11/15.

Docket Numbers: ER15-1823-001.

Applicants: Pacific Gas and Electric Company.

Description: Compliance filing: eTariff Migration Compliance Filing to Update Pending Records in SA17 Western to be effective 8/1/2015 .

Filed Date: 8/24/15.

Accession Number: 20150824-5000.

Comments Due: 5 p.m. ET 9/14/15.

Docket Numbers: ER15-2510-000.

Applicants: Wisconsin Electric Power Company.

Description: § 205(d) Rate Filing: FERC Electric Rate Schedule No. 135—Common Facilities Agrmt to be effective 10/23/2015.

Filed Date: 8/24/15.

Accession Number: 20150824-5138.

Comments Due: 5 p.m. ET 9/14/15.

Docket Numbers: ER15-2511-000.

Applicants: Wisconsin Electric Power Company.

Description: § 205(d) Rate Filing: FERC Electric Rate Schedule No. 134—Project Services Agreement to be effective 10/23/2015.

Filed Date: 8/24/15.

Accession Number: 20150824-5141.

Comments Due: 5 p.m. ET 9/14/15.

Docket Numbers: ER15-2512-000.

Applicants: Southwest Power Pool, Inc.

Description: § 205(d) Rate Filing: 2415R4 Kansas Municipal Energy Agency NITSA and NOA to be effective 8/1/2015.

Filed Date: 8/24/15.

Accession Number: 20150824-5145.

Comments Due: 5 p.m. ET 9/14/15.

Docket Numbers: ER15-2513-000

Applicants: Southwest Power Pool, Inc.

Description: § 205(d) Rate Filing: 2562R3 Kansas Municipal Energy Agency NITSA and NOA to be effective 8/1/2015.

Filed Date: 8/24/15.

Accession Number: 20150824-5160.

Comments Due: 5 p.m. ET 9/14/15.

Docket Numbers: ER15-2514-000.

Applicants: Southwest Power Pool, Inc.

Description: § 205(d) Rate Filing: 2900R4 KMEA NITSA NOA to be effective 8/1/2015.

Filed Date: 8/24/15.

Accession Number: 20150824-5165.

Comments Due: 5 p.m. ET 9/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2015.
Nathaniel J. Davis, Sr.,
Deputy Secretary.

[FR Doc. 2015-21386 Filed 8-27-15; 8:45 am]

BILLING CODE 6717-01-P